NATIONAL SKILL STANDARDS BOARD

Solicitation of Comments

AGENCY: National Skill Standards Board.

SUMMARY: The National Skill Standards Board (NSSB) is building a voluntary national system of skill standards, assessments, and certification that will enhance the ability of the U.S. to compete effectively in a global economy. Industry-led, voluntary coalitions, called Voluntary Partnerships, are developing the skill standards, assessment, and certification systems within fifteen NSSB-defined industry sectors. The NSSB has developed a set of criteria for assessment, against which assessments developed by the Voluntary Partnerships will be evaluated for approval by the Board. The NSSB seeks public comment on these criteria to ensure clarity and comprehensiveness. Comments must be submitted in writing as described in the “Request for and Resolution of Comments” in the “Supplementary Information” section below in order to be considered, and details on submitting comments via e-mail, fax, or regular mail are provided in the “Addresses” section of this announcement.

DATES: The National Skill Standards Board will accept written comments on the criteria for assessment on or before April 30, 2001.

ADDRESSES: Please send comments via regular mail to: NSSB, Attention: Elizabeth Kolmstetter, Sr. Director for Standards, Assessment, and Certification, 1441 L Street, N.W., Suite 9000, Washington, DC 20005-3512. To submit comments via fax, transmit to Elizabeth Kolmstetter, Assessment Criteria, at 202-254-8646. To submit comments via the Internet, go to http://www.nssb.org. Click on the icon entitled “View and Comment on Assessment Criteria Here.”

FOR FURTHER INFORMATION CONTACT: For further information on the Voluntary National System of Industry Skill Standards, Assessment, and Certification, contact National Skill Standards Board (NSSB): 1441 L Street, N.W., Suite 9000, Washington DC 20005, 202-254-8628, http://www.nssb.org.

SUPPLEMENTARY INFORMATION:

Table of Contents

I. Background

II. Authorizing Legislation

III. NSSB Criteria for Assessment

IV. Request for and Resolution of Comments

I. Background

The National Skill Standards Act of 1994 created “a National Skill Standards Board to serve as a catalyst in stimulating the development and adoption of a voluntary national system of skill standards and of assessment and certification of attainment of skill standards” (see Section II below). The Act defines a skill standard as one that specifies the level of knowledge and skills required to successfully perform work-related functions within an industry cluster. Industry clusters are broad groups of industries defined by the NSSB to delineate the scope of employment covered by skill standards. They are based on the federal government's official 1997 North American Industry Classification System. Industry coalitions called Voluntary Partnerships (VPs) are developing the skill standards, assessment and certification systems within fifteen industry clusters. The skill standards, and therefore assessments and certifications, are being developed to reflect the needs of high-performance organizations.

II. Authorizing Legislation

Public Law 103-227, Title V, National Skill Standards Act of 1994.

III. NSSB Criteria for Assessment

The National Skill Standards Board (NSSB) will use the following specific criteria to evaluate the degree to which skill standards systems include an appropriate assessment system plan, and the degree to which this plan adheres to statutory requirements and NSSB policy on assessment. Criteria are being developed for certification and will be available for public comment before the end of the year. Voluntary Partnerships must demonstrate adherence to the criteria in order to receive NSSB approval and ultimate endorsement of the entire system.

Criteria Related to Methodology

A1. Assessments are reliable, fair, and valid, accurately measuring the skills they are designed to measure, and are consistent with federal civil rights laws with respect to race, color, gender, age, religion, ethnicity, disability, and national origin. To achieve these goals of reliability, validity, and fairness, the assessments are developed in a manner consistent with relevant professional and technical standards and government guidelines. Professional standards include the APA/AERA/NCME Standards for Educational and Psychological Tests and the Society for Industrial and Organizational Psychology's Principles for the Validation and Use of Employee Selection Procedures. Government guidelines are found in 29 Code of Federal Regulations 1607, Uniform Guidelines on Employee Selection Procedures.

A2. Assessments are neutral on their face with respect to the groups protected by civil rights law.

A3. Assessments are manifestly job-related and consistent with business necessity, reflecting only the knowledge and skills (including language and physical skills) actually required for competent performance.

A4. Assessments are as objective as possible. When subjective measures are necessary, techniques (for example, administrator and rater training, rating guides or scales, checklists, structured assessments, scripts, etc.) are applied to increase the consistency of judgments.

A5. The assessments are practical in terms of time, expense, and resource requirements involved in both their development (that is, creation and validation of the assessments) and delivery (that is, ongoing administration, scoring, and maintenance/updating of the assessments).

Criteria Related to Components of the Assessment System

B1. Assessments capture the full richness of the skill standards. This means knowledge and skills are measured in the context of the work described by the critical work functions, key activities, and performance indicators.

B2. Assessments incorporate measures of performance that reflect the characteristics of best-practice, high-performance workplaces. In addition, assessment content and format are designed to maximize the acceptability of the assessments to users and to maximize the value of the assessments as signals of the types of skills, knowledge, and performance required by high-performance workplaces.

B3. Assessments are modular, allowing individuals to demonstrate proficiency in and receive credit for attainment of a portion of a skill standard.

B4. Assessments are not limited to a single assessment tool or method and may include multiple measures of the same skill, as long as they are consistent with NSSB assessment criteria.

B5. Innovative methods of assessment (for example, new types of simulations or performance measures), as well as innovative methods of assessment delivery (for example, computer- or video-based assessment), are encouraged, as long as they are consistent with the NSSB assessment criteria.

Criteria Related to the Use of Assessment

C1. Assessments are analyzed for their adverse impact on the groups protected by civil rights law and the Voluntary Partnership selects the assessments with the least adverse impact without sacrificing validity.

C2. Assessments are accessible to people who are able to demonstrate their competence by virtue of their experience, self-instruction, or formal programs of instruction.

C3. Alternative formats, assistance, or other provisions are made for assessments in order to reasonably accommodate persons with disabilities, consistent with the American with Disabilities Act of 1990 and the Rehabilitation Act of 1973, as amended in 1992.

C4. In order to assure the greatest possible access, pre-assessment information is provided to potential candidates and other users including information about the actual assessments and the assessment process (for example, topics covered, how much it costs, how long it takes, where it is available, and any preparation materials available). Information about the assessments does not include disclosure of the assessments themselves.

C5. To the extent economically feasible, assessments are available in locations which do not necessitate undue travel time or costs for individuals.

C6. All individuals who are assessed are provided feedback on their performance. At a minimum, feedback includes whether the candidate passed or failed certification and whether the candidate passed or failed each assessment module. Mechanisms are established to offer feedback and scoring results as quickly as possible. This criterion does not require Voluntary Partnerships to divulge information about assessments, either through feedback or re-assessment, which is so specific as to endanger the security of the assessment.

C7. Individuals who do not successfully complete an assessment are afforded some opportunity to be assessed again.

C8. Assessment systems are administered in a manner consistent with NSSB criteria and as approved by the NSSB. Administration of the assessment system includes its development, oversight, quality control, and routine operation.

V. Request for and Resolution of Comments

The National Skill Standards Board (NSSB) requests that comments submitted address one or more of the following areas:

• The adequacy and completeness of this list of criteria;

• The clarity of the criteria;

• Examples or descriptions of how the VPs can meet the criteria; and,

• Examples of how to document compliance with the criteria.

The NSSB shall review and take into consideration all comments; will respond in writing to comments as appropriate; and, will make revisions as deemed appropriate. At the end of the comment period the NSSB will post a summary of comments on the NSSB Website www.nssb.org. A summary of the response to comments and a notice of revision will be posted at a later date.

Signed at Washington DC this 23rd day of February 2001.
Edie West,
Executive Director, National Skill Standards Board.

[FR Doc. 01-4899 Filed 2-27-01; 8:45 am]

BILLING CODE 4510-BF-P